DEPARTMENT OF TRANSPORTATION

Federal Aviation Administration

14 CFR Part 39

[Docket No. FAA-2024-1702; Project Identifier MCAI-2024-00067-T; Amendment 39-23076; AD 2025-13-10]

RIN 2120-AA64

Airworthiness Directives; Airbus SAS Airplanes

AGENCY: Federal Aviation Administration (FAA), DOT.

ACTION: Final rule.

SUMMARY: The FAA is superseding Airworthiness Directive (AD) 2021-25-14, which applied to all Airbus SAS Model A319-111, -112, -113, -114, -115, -131, -132, and -133 airplanes; Model A320-211, -212, -214, -216, -231, -232, and -233 airplanes; and Model A321-111, -112, -131, -211, -212, -213, -231, and -232 airplanes. AD 2021-25-14 required repetitive inspections for cracking at the wing manhole access panel attachment holes at certain wing skin panels, and corrective action if necessary. Since the FAA issued AD 2021-25-14, new investigation results determined that additional airplanes are subject to the unsafe condition and certain structural repair manual (SRM) tasks should not be used to accomplish repairs. This AD continues to require the actions in AD 2021-25-14. This AD also changes the applicability to both add and remove airplane models, updates the compliance times, and prohibits the use of certain SRM tasks for repair. The FAA is issuing this AD to address the unsafe condition on these products.

DATES: This AD is effective August 14, 2025.

The Director of the Federal Register approved the incorporation by reference of a certain publication listed in this AD as of August 14, 2025.

ADDRESSES:

AD Docket: You may examine the AD docket at regulations.gov under Docket No. FAA-2024-1702; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-1702.

FOR FURTHER INFORMATION CONTACT: Timothy Dowling, Aviation Safety Engineer, FAA, 2200 South 216th St., Des Moines, WA 98198; phone: 817-222-5102; email: Timothy.P.Dowling@faa.gov.

SUPPLEMENTARY INFORMATION:

Background

The FAA issued a notice of proposed rulemaking (NPRM) to amend 14 CFR part 39 to supersede AD 2021-25-14, Amendment 39-21858 (86 FR 72171, December 21, 2021) (AD 2021-25-14). AD 2021-25-14 applied to all Airbus SAS Model A319-111, -112, -113, -114, -115, -131, -132, and -133 airplanes; Model A320-211, -212, -214, -216, -231, -232, and -233 airplanes; and Model A321-111, -112, -131, -211, -212, -213, -231, and -232 airplanes. AD 2021-25-14 required repetitive inspections for cracking at the wing manhole access panel attachment holes at certain wing skin panels and corrective action if necessary. The FAA issued AD 2021-25-14 to address this unsafe condition, which could lead to crack propagation, possibly resulting in reduced structural integrity of the wings.

The NPRM was published in the Federal Register on July 3, 2024 (89 FR 55123). The NPRM was prompted by AD 2024-0027, dated January 25, 2024 (EASA AD 2024-0027), issued by EASA, which is the Technical Agent for the Member States of the European Union. EASA AD 2024-0027 states new investigation results highlighted that inspections must be applied to all models of A319, A320, and A321 airplanes in an affected configuration, and the associated compliance time must be adapted to these configurations. It was determined that fatigue cracking may occur in affected areas on airplanes having Sharklets installed during production or in service.

In the NPRM, the FAA proposed to retain the actions of AD 2021-25-14 and to revise the applicability by adding new engine option (NEO) airplane models and removing Airbus SAS Model A321-111, -112, and -131 airplanes. The FAA also proposed to update the compliance times as specified in EASA AD 2024-0027.

The FAA issued a supplemental notice of proposed rulemaking (SNPRM) to amend 14 CFR part 39 to supersede AD 2021-25-14. The SNPRM was published in the Federal Register on February 13, 2025 (90 FR 9523). The SNPRM was prompted by EASA AD 2024-0230, dated December 2, 2024 (EASA AD 2024-0230) (also referred to as “the MCAI”), which superseded EASA AD 2024-0027. Since EASA AD 2024-0027 was issued, Airbus published certain SRM tasks for repair as a result of the repetitive inspections at revision dated May 2024 to remove inadequate instructions for bush installation at steps 2 to 9 dated February 2024 or earlier. Accordingly, EASA AD 2024-0230 prohibits the use of SRM tasks 57-21-11-300-010, 57-21-11-300-021, and 57-21-11-300-025 that were deactivated at revision dated August 2023 for accomplishing repairs.

In the SNPRM, the FAA revised the proposals in the NPRM by adding a prohibition against accomplishing a repair using certain SRM tasks. The FAA is issuing this AD to address the unsafe condition on these products.

You may examine the MCAI in the AD docket at regulations.gov under Docket No. FAA-2024-1702.

Discussion of Final Airworthiness Directive

Comments

The FAA received a comment from United Airlines, who supported the SNPRM without change.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the SNPRM. None of the changes will increase the economic burden on any operator.

Material Incorporated by Reference Under 1 CFR Part 51

The FAA reviewed EASA AD 2024-0230, which specifies procedures for repetitive detailed inspections for cracks of the affected areas (left-hand and right-hand wing manhole access panel attachment holes in the bottom wing skin panels 2, between rib 13 and rib 23) and applicable corrective actions (i.e., repair). EASA AD 2024-0230 also prohibits accomplishing a repair using certain SRM tasks. This material is reasonably available because the interested parties have access to it through their normal course of business or by the means identified in the ADDRESSES section.

Costs of Compliance

The FAA estimates that this AD affects 1,650 airplanes of U.S. registry. The FAA estimates the following costs to comply with this AD:

Estimated Costs for Required Actions
Action | Labor cost | Parts cost | Cost per product | Cost on U.S. operators
Inspection | 14 work-hours × $85 per hour = $1,190 | $0 | $1,190 per inspection cycle | $1,963,500 per inspection cycle.

The extent of damage found during the required inspection could vary significantly from airplane to airplane. The FAA has no way of determining how much damage may be found on each airplane, the cost to repair the damage on each airplane, or the number of airplanes that may require repair.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-25-14, Amendment 39-21858 (86 FR 72171, December 21, 2021); and

b. Adding the following new AD:

2025-13-10 Airbus SAS: Amendment 39-23076; Docket No. FAA-2024-1702; Project Identifier MCAI-2024-00067-T.

(a) Effective Date

This airworthiness directive (AD) is effective August 14, 2025.

(b) Affected ADs

This AD replaces AD 2021-25-14, Amendment 39-21858 (86 FR 72171, December 21, 2021) (AD 2021-25-14).

(c) Applicability

This AD applies to all Airbus SAS airplanes identified in paragraphs (c)(1) through (3) of this AD, certificated in any category.

(1) Model A319-111, -112, -113, -114, -115, -131, -132, -133, -151N, -153N, and -171N airplanes.

(2) Model A320-211, -212, -214, -216, -231, -232, -233, -251N, -252N, -253N, -271N, -272N, and -273N airplanes.

(3) Model A321-211, -212, -213, -231, -232, -251N, -251NX, -252N, -252NX, -253N, -253NX, -271N, -271NX, -272N, and -272NX airplanes.

(d) Subject

Air Transport Association (ATA) of America Code 57, Wings.

(e) Unsafe Condition

This AD was prompted by a determination that fatigue cracking may occur at the left-hand and right-hand wing manhole access panel attachment holes in the bottom wing skin panels 2, between rib 13 and rib 23, on airplanes with Sharklets or their structural reinforcements installed. This AD was also prompted by a determination that additional airplanes are subject to the unsafe condition and certain structural repair manual tasks should not be used to accomplish repairs. The FAA is issuing this AD to address fatigue cracking that may occur in affected areas on airplanes having Sharklets installed during production or in service. The unsafe condition, if not addressed, could result in crack initiation and propagation, possibly resulting in reduced structural integrity of the wings.

(f) Compliance

Comply with this AD within the compliance times specified, unless already done.

(g) Requirements

Except as specified in paragraphs (h) and (i) of this AD: Comply with all required actions and compliance times specified in, and in accordance with, European Union Aviation Safety Agency (EASA) AD 2024-0230, dated December 2, 2024 (EASA AD 2024-0230).

(h) Exceptions to EASA AD 2024-0230

(1) Where EASA AD 2024-0230 refers to its effective date, this AD requires using the effective date of this AD.

(2) Where EASA AD 2024-0230 refers to February 8, 2024 (the effective date of EASA AD 2024-0027, dated January 25, 2024), this AD requires using the effective date of this AD.

(3) Where paragraph (2) of EASA AD 2024-0230 specifies “any finding is detected as defined in the AOT, before next flight, contact Airbus for approved repair instructions and, within the compliance time specified therein, accomplish those instructions accordingly”, this AD requires replacing that text with “any cracking is detected, the cracking must be repaired before further flight using a method approved by the Manager, AIR-520, Continued Operational Safety Branch, FAA; or EASA; or Airbus SAS's EASA Design Organization Approval (DOA). If approved by the DOA, the approval must include the DOA-authorized signature”.

(4) This AD does not adopt the requirements of paragraph (4) of EASA AD 2024-0230.

(5) This AD does not adopt the “Remarks” section of EASA AD 2024-0230.

(i) No Reporting Requirement

Although the material referenced in EASA AD 2024-0230 specifies to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraphs (i) and (j)(2) of this AD, if any material referenced in EASA AD 2024-0230 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(k) Additional Information

For more information about this AD, contact Timothy Dowling, Aviation Safety Engineer, FAA, 2200 South 216th St., Des Moines, WA 98198; phone: 817-222-5102; email: Timothy.P.Dowling@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0230, dated December 2, 2024.

(ii) [Reserved]

(3) For the EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on June 30, 2025.
Peter A. White,
Deputy Director, Integrated Certificate Management Division, Aircraft Certification Service.

[FR Doc. 2025-12894 Filed 7-9-25; 8:45 am]

BILLING CODE 4910-13-P